DEPARTMENT OF TRANSPORTATION

Federal Railroad Administration

Safety Advisory 2009-03

AGENCY: Federal Railroad Administration (FRA), Department of Transportation (DOT).

ACTION: Notice of Safety Advisory; Identification and Handling of Highway-Rail Grade Crossings with Vertical Profile Conditions.

SUMMARY: FRA is issuing Safety Advisory 2009-03 to address Safety Recommendations H-96-01, H-96-02, and H-96-04, issued by the National Transportation Safety Board (NTSB) that relate to vertical roadway profile conditions at highway-rail grade crossings. This safety advisory reminds States of their responsibility to identify and document in the U.S. DOT National Highway-Rail Grade Crossing Inventory (“DOT Crossing Inventory”) highway-rail crossings where “Low Ground Clearance” signs have been installed. This safety advisory also recommends that States implement policies and procedures to identify public highway-rail grade crossings that do not satisfy the standard for vertical profile conditions set forth in the American Association of State Highway and Transportation Officials' Policy on Geometric Design of Highways and Streets (“AASHTO Green Book”) and recommends that corrective action be taken to bring them into compliance.

FOR FURTHER INFORMATION CONTACT: Ron Ries, Staff Director, Highway-Rail Grade Crossing & Trespasser Prevention Division, FRA, RRS-23, Mail Stop 25, 1200 New Jersey Avenue, SE., Washington, DC 20590 (telephone: (202) 493-6299), or Kathryn Shelton, Attorney, Office of Chief Counsel, FRA, RCC-11, Mail Stop 10, 1200 New Jersey Avenue, SE., Washington, DC 20590 (telephone: (202) 493-6038).

SUPPLEMENTARY INFORMATION:

Background

In Safety Recommendation H-96-01, the NTSB recommended that DOT expand its DOT Crossing Inventory to include vertical profile information on all highway-rail grade crossings in the United States. The NTSB advised that this additional data, which could be obtained in a cost-effective manner by simply training the survey teams that currently collect State grade crossing data to make vertical profile measurements, would facilitate the identification of existing crossings that do not meet the AASHTO Green Book standard for vertical profile conditions.¹

¹ AASHTO's Green Book standard for vertical profile conditions states that the crossing surface should be at the same plane as the top of the rails for a distance of two feet outside the rails. Additionally, the surface of the highway should not be more than three inches higher or lower than the top of the nearest rail at a point 30 feet from the rail (except where track superelevation makes a different level necessary). A copy of AASHTO's Green Book standard for vertical profile conditions may be obtained from AASHTO at the following address: 444 North Capitol Street, NW., Suite 249, Washington, DC 20001. A copy of AASHTO's Green Book standard for vertical profile conditions is also available at the Federal Railroad Administration, Docket Office, 1200 New Jersey Avenue, SE., Washington, DC 20590.

FRA determined, however, that requiring States to take vertical profile measurements of each highway-rail grade crossing could be very burdensome and costly on State highway transportation departments who would likely bear the brunt of additional costs associated with required training and/or employment of additional personnel. Therefore, FRA modified the DOT Crossing Inventory Form in March 1999 to include a data field that would identify crossings equipped with Low Ground Clearance signs (W10-5 in the Federal Highway Administration's Manual on Uniform Traffic Control Devices). However, based on a recent review of DOT Crossing Inventory records, it appears that States have not been submitting this information, even though use of this relatively new sign is understood to be increasing.

FRA has been statutorily mandated by the Rail Safety Improvement Act of 2008 (RSIA08) to prescribe regulations that would require States and railroads to submit current information and periodic updates for public, private, and pedestrian crossings. Rail Safety Improvement Act of 2008, 49 U.S.C. 20160, 23 U.S.C. 130 (2008). Therefore, given the lack of current data on the prevalence of crossings with substandard vertical profiles, FRA intends to address this issue during the course of the upcoming rulemaking. In addition, FRA is currently funding a pilot demonstration project that utilizes LIDAR (light detection and ranging) mounted on a track inspection vehicle to determine if this technology is an economical and efficient way to collect vertical profile data at crossings. A successful project could lead to an automated method to collect the data, thus reducing the potential burden on State highway transportation departments who would likely be required to provide this information for public highway-rail grade crossings.

In Safety Recommendation H-96-02, the NTSB recommended that DOT encourage and coordinate efforts between the railroad industry and State and local highway transportation officials to identify crossings with substandard vertical profiles and close or take appropriate corrective action to eliminate them. FRA believes that the rulemaking mandated by RSIA08 will play an important role in facilitating joint efforts by the railroad industry and State and local highway officials to identify crossings with substandard vertical profile conditions and take appropriate corrective action to eliminate them. As stated above, FRA intends to address the absence of current data on the prevalence of crossings with substandard vertical profiles in this upcoming rulemaking.

In Safety Recommendation H-96-04, the NTSB recommended that DOT develop procedures and processes that will facilitate improved communication and coordination between the railroad industry and State and local highway transportation officials regarding crossing maintenance activities so as to prevent the creation of crossings with substandard vertical profile conditions. FRA intends to comply with this Safety Recommendation by participating in a joint effort with the Federal Highway Administration to develop and propose guidance for inclusion in the next revision of the AASHTO Green Book that would require prior communication and coordination of any changes in highway approach elevation or roadway width with appropriate railroad personnel. FRA has been informed that similar revisions have been proposed by the American Railway Engineering and Maintenance of Way Association (AREMA) for the railroad industry. FRA believes that revision of these AASHTO and AREMA standards will facilitate improved communication and coordination between the railroad industry and State and local highway transportation officials regarding crossing maintenance activities, so as to reduce and/or eliminate the creation of new crossings with substandard vertical profile conditions.

Recommended Action: Based on the foregoing discussion and to promote the safety of highway-rail grade crossings on the Nation's railroads, FRA recommends that each State:

(1) Identify public highway-rail grade crossings where Low Ground Clearance signs have been installed and submit updated data on these crossings to the DOT Crossing Inventory; and

(2) implement policies and procedures to identify public highway-rail grade crossings that do not satisfy the AASHTO Green Book standard for vertical profile conditions and take corrective action to bring them into compliance.

States are encouraged to take action consistent with the preceding recommendations and to take other actions to help ensure the safety of highway-rail grade crossings on the Nation's railroads. FRA may modify this Safety Advisory 2009-03, issue additional safety advisories, or take other appropriate action necessary to ensure the highest level of safety on the Nation's railroads.

Issued in Washington, DC, on December 31, 2009.
Jo Strang,
Associate Administrator for Railroad Safety/Chief Safety Officer.

[FR Doc. 2010-1118 Filed 1-21-10; 8:45 am]

BILLING CODE 4910-06-P